NATIONAL COMMUNICATIONS SYSTEM

Telecommunications Service Priority System Oversight Committee

AGENCY: National Communications System (NCS).

ACTION: Notice of meeting.

A meeting of the Telecommunications Service Priority (TSP) System Oversight Committee will convene Tuesday, May 8, 2001 from 9 a.m. to 12 p.m. The meeting will be held at 701 South Court House Road, Arlington, VA in the NCS conference room on the 2nd floor.

• TSP Program Update

• Report on TSP Working Group Activities

• Review of TSP OC Membership

Anyone interested in attending or presenting additional information to the Committee, please contact Ms. Deborah Bea, Office of Priority Telecommunications, (703) 607-4933.

Frank McClelland,
Federal Register Liaison Officer, National Communications System.

[FR Doc. 01-9815 Filed 4-19-01; 8:45 am]

BILLING CODE 5001-08-M